DEPARTMENT OF THE INTERIOR

National Park Service

[NPS-PWR-PWRO-21126; PX.PR113509M.00.1]

Record of Decision for the Hawaii Volcanoes National Park General Management Plan/Wilderness Study; Final Environmental Impact Statement, Hawaii County, Hawaii

AGENCY: National Park Service, Interior.

ACTION: Notice of Availability.

SUMMARY: The National Park Service (NPS) has prepared and approved a Record of Decision for the General Management Plan/Wilderness Study/Final Environmental Impact Statement (GMP/WS/EIS) for Hawaii Volcanoes National Park. Approval of the GMP/WS/EIS culminates an extensive public engagement and environmental impact analysis effort that began in 2009.

ADDRESSES: Those wishing to review the Record of Decision may obtain a copy by submitting their request to the Superintendent, Hawaii Volcanoes National Park, P.O. Box 52, Hawaii National Park, HI 96718-0052.

FOR FURTHER INFORMATION CONTACT: Cindy Orlando, Superintendent, telephone (808) 985-6026 or email NPS_HAVO_Planning@nps.gov.

SUPPLEMENTARY INFORMATION: This process was conducted pursuant to the National Environmental Policy Act of 1969 (42 U.S.C. 4321 et seq.) and the implementing regulations promulgated by the Council on Environmental Quality (40 CFR part 1505.2). The original Notice of Intent (NOI) initiating the conservation planning and environmental impact analysis process appeared in the Federal Register on April 13, 2009. A revised NOI expanding the scope of the GMP to include a wilderness study was published December 2, 2011. Based on information obtained from extensive public outreach, three alternatives were developed. The NPS consulted with park partners; Native Hawaiians; the State Historic Preservation Officer; and other federal and state agencies. The Draft EIS was released on May 1, 2015, for a 60-day review and comment period. In addition to the numerous public meetings held during public scoping and alternatives development, the NPS held one public meeting at the park's visitor center on June 10, 2015, to share information and gather feedback on the Draft EIS. This meeting also included a public hearing on the wilderness study. Overall, 32 pieces of correspondence were received during the public review period. No new substantive comments were received. With due consideration for the minimal public and agency response, the NPS utilized an abbreviated format in preparing the Final EIS. The legally required 30-day “wait period” was initiated on March 11, 2016, with the Environmental Protection Agency's Federal Register publication of the notice of filing and release of the GMP/Final EIS. The NPS evaluated the environmental consequences of two action alternatives and a no-action alternative. These alternatives described varying means to provide appropriate types and levels of access for visitors and authorized users, preserve wilderness character, protect cultural and natural resources, and adhere to legally required management and preservation objectives.

Alternative 2 (agency-preferred) has been selected for implementation. This is also the environmentally-preferred course of action, which emphasizes resource stewardship and preservation while strengthening and broadening opportunities to connect people with the volcanic world treasure, Hawaii Volcanoes National Park, and providing a wide range of high quality visitor experiences based on different geographic areas within the park. The GMP also proposes to seek legislation to include Olaa (9,679 acres) within the formal park boundary and to acquire several parcels totaling 21,381 acres, including the Great Crack and Pohue Bay. The Wilderness Study proposes wilderness designation of the lands found eligible in Kahuku (121,015 acres) as a natural extension of the existing wilderness within the park.

For a park that protects two of the most continuously active shield volcanoes in the world, the new Hawaii Volcanoes National Park GMP defines a clear direction for resource preservation and visitor experience over the next 20 years. The GMP provides a framework for proactive decision making, which will allow park managers to effectively address future opportunities and problems. The approved GMP will also serve as the basis for future detailed management documents, such as wilderness stewardship plans, trails management plans, and project implementation plans.

Dated: May 24, 2016.
Patricia L. Neubacher,
Acting Regional Director, Pacific West Region.

[FR Doc. 2016-16744 Filed 7-14-16; 8:45 am]

BILLING CODE 4312-FF-P